DEPARTMENT OF ENERGY

National Petroleum Council, Office of Fossil Energy

National Petroleum Council

AGENCY: Department of Energy, Office of Fossil Energy.

ACTION: Notice of Open Meeting.

This notice announces a meeting of the National Petroleum Council (NPC). The Federal Advisory Committee Act (Pub. L. 92-463, 86 Stat. 770) requires that notice of these meetings be announced in the Federal Register.

DATES: Wednesday, September 17, 2008, 9 a.m.

LOCATION: The Fairmont, Washington, DC, 2401 M Street, NW., Washington, DC 20037.

FOR FURTHER INFORMATION CONTACT: James Slutz, U.S. Department of Energy, Office of Oil and Natural Gas, Washington, DC 20585. Phone: 202-586-5600.

SUPPLEMENTARY INFORMATION: Purpose of the Committee: To provide advice, information, and recommendations to the Secretary of Energy on matters relating to oil and gas or the oil and gas industry.

Tentative Agenda:

• Call to Order and Introductory Remarks.

• Remarks by the Honorable Samuel W. Bodman, Secretary of Energy.

• Review Status of the National Petroleum Council Hard Truths Report.

• Administrative Matters.

• Discussion of Any Other Business Properly Brought Before the National Petroleum Council.

• Adjournment.

Public Participation: The meeting is open to the public. The Chairman of the Committee will conduct the meeting to facilitate the orderly conduct of business. Any member of the public who wishes to file a written statement to the Council will be permitted to do so, either before or after the meeting. Members of the public who wish to make oral statements pertaining to agenda items should contact James Slutz at the address or telephone number listed above. Request must be received at least five days prior to the meeting and reasonable provisions will be made to include the presentation on the agenda.

Transcripts: Available for public review and copying at the Public Reading Room, Room 1G-033, Forrestal Building, 1000 Independence Avenue, SW., Washington, DC, between 9 a.m. and 4 p.m., Monday through Friday, except Federal holidays.

Issued at Washington, DC, on August 26, 2008.
Rachel Samuel,
Deputy Committee Management Officer.

[FR Doc. E8-20120 Filed 8-28-08; 8:45 am]

BILLING CODE 6450-01-P